DEPARTMENT OF STATE

[Public Notice 6153]

Meetings of the United States-Chile Environment Affairs Council

ACTION: Notice and request for comments.

SUMMARY: The Department of State and the Office of the United States Trade Representative (USTR) are providing notice that, as set forth in Chapter 19 (Environment) of the United States-Chile Free Trade Agreement (FTA), the two governments intend to hold the fourth meeting of the Environment Affairs Council (the “Council”) in Santiago, Chile on April 24, 2008. A public information session will be held for members of the public on April 24, at 3 p.m., in the Ministry of Foreign Relations, Teatinos 180, Conference Room, 2nd Floor. The purpose of the Council meeting is detailed below under SUPPLEMENTARY INFORMATION.

The meeting agenda will include a review of Chapter 19 Provisions, a progress report on projects outlined in the FTA's Environment Chapter, an overview of success stories under the 2007-2008 Work Program pursuant to the United States-Chile Environmental Cooperation Agreement (“the ECA”), a presentation of project ideas to continue with the implementation of the 2007-2008 Work Program and beyond, and a consultation between the advisory committees for Chile and the United States, La Comision Nacional del Medio Ambiente (CONAMA) and the Trade and Environment Policy Advisory Committee (TEPAC). The Department of State and USTR invite interested agencies, organizations, and members of the public to submit written comments or suggestions regarding agenda items and to attend the public session.

In preparing comments, we encourage submitters to refer to:

• The FTA's Environment Chapter including Annex 19.3, and the Final Environment Review of the FTA, available at: http://www.ustr.gov/Trade_Agreements/Bilateral/Chile_FTA/Section_Index.html.

• The ECA, available at: http://www.state.gov/g/oes/rls/or/22185.htm.

• Joint Declaration from the third Council meeting (October 23, 2006) at: http://www.state.gov/g/oes/env/trade/index.htm.

DATES: To be assured of timely consideration, comments are requested no later than April 21, 2008.

ADDRESSES: Written comments or suggestions should be submitted to both:

(1) Carmen Yee-Batista, U.S. Department of State, Bureau of Oceans, Environment, and Science, Office of Environmental Policy by electronic mail at yeebatistac@state.gov with the subject line “US-Chile EAC Meeting” or by fax to (202) 647-5947; and (2) Mara M. Burr, Deputy Assistant United States Trade Representative for Environment and Natural Resources, Office of the United States Trade Representative by electronic mail at mburr@ustr.eop.gov with the subject line “US-Chile EAC Meetings” or by fax to (202) 395-9517.

FOR FURTHER INFORMATION CONTACT: Carmen Yee-Batista, Telephone (202) 647-6777 or Mara M. Burr, Telephone (202) 395-7320.

SUPPLEMENTARY INFORMATION: The United States-Chile FTA entered into force on January 4, 2004. Article 3 of Chapter 19 (Environment) of the FTA establishes an Environment Affairs Council, which is required to meet at least once a year to discuss the implementation of, and progress under, Chapter 19. Chapter 19 requires that meetings of the Council include a public session, unless otherwise agreed by the two governments. Under Chapter 19, the two governments agreed to undertake eight specific cooperative activities set out in Annex 19.3 of the Chapter and to negotiate a United States-Chile Environmental Cooperation Agreement to further environmental cooperative activities. The ECA entered into force on May 1, 2004 and sets out a framework for environmental cooperative activities between the two governments. Article II of the ECA establishes the United States-Chile Joint Commission for Environmental Cooperation (the “Commission”), with responsibilities that include developing and periodically reviewing a Work Program. The Commission is required to meet at least every two years. The first meetings of the Council and the Commission were held on July 22, 2004, in Santiago, Chile, and the third meeting of the Council and second meeting of the Commission were held on October 23-24, 2006, in Santiago, Chile. At the third Council meeting, the Council discussed the implementation of Chapter 19 of the FTA with respect to public participation, progress reports on the eight cooperation projects under Chapter 19, implementation of the 2005-2006 Work Program, and elaboration of the 2007-2008 Work Program. At the upcoming fourth meeting of the Council, the Council will consider the implementation of the Chapter, review of cooperative projects, success stories under the 2007-2008 ECA Work Program, and project ideas to continue with the implementation of the 2007-2008 Work Program and beyond. At these meetings, the Council will also consider recommendations for future bilateral environmental cooperation.

The public is advised to refer to the State Department Web site at http://www.state.gov/g/oes/env/ for further information related to the Council meeting.

Dated: March 21, 2008.
Daniel T. Fantozzi,
Director, Office of Environmental Policy, Department of State.

[FR Doc. E8-6207 Filed 3-25-08; 8:45 am]

BILLING CODE 4710-09-P